COMMISSION ON CIVIL RIGHTS

Agenda and Notice of Public Meeting of the North Carolina Advisory Committee

Notice is hereby given, pursuant to the provisions of the rules and regulations of the U.S. Commission on Civil Rights, that a meeting of the North Carolina Advisory Committee to the Commission will convene at 1 p.m. and adjourn at 5 p.m. on April 25, 2001, at the Sheraton Hotel, 1 Europa Drive, Chapel Hill, North Carolina 27278. The purpose of the meeting is to discuss the status of civil rights issues in the State and Nation, and plan future projects.

Persons desiring additional information, or planning a presentation to the Committee, should Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, April 4, 2001.
Edward A. Hailes, Jr.,
General Counsel.

[FR Doc. 01-8698 Filed 4-9-01; 8:45 am]

BILLING CODE 6335-01-P